DEPARTMENT OF HOMELAND SECURITY

Office of the Secretary

[Docket No. DHS-2008-0015]

Privacy Act of 1974; Department of Homeland Security Biographies and Awards System of Records

AGENCY: Privacy Office; DHS.

ACTION: Notice of Privacy Act system of records.

SUMMARY: In accordance with the Privacy Act of 1974 and as part of the Department of Homeland Security's ongoing effort to review and update legacy system of record notices, the Department of Homeland Security proposes to consolidate four legacy record systems: Treasury/CS.032 Biographical Files (Headquarters), October 18, 2001, FEMA/EX-1 Biographies, September 7, 1990, FEMA/EX-2 President's and Director's Award Nominees, September 7, 1990, and DOT/CG 671 Biographical Statement, April 11, 2000, into one Department-wide system of records. The Department of Homeland Security also proposes to partially consolidate Treasury/USSS.008 Public Affairs Record System, August 28, 2001, into this new record system. This system will allow the Department of Homeland Security to collect and maintain the biographical information of Department of Homeland Security employees and other individuals, as well as Departmental award recipients who are not employed by the Department of Homeland Security. Departmental award recipients who are Department of Homeland Security employees are covered under OPM/GOVT-2 Performance File System Records. Categories of individuals, categories of records, and the routine uses of these legacy system of records notices have been consolidated and updated to better reflect the Department's biographies record systems. This consolidated system, titled Biographies and Awards, will be included in the Department's inventory of record systems.

DATES: Written comments must be submitted on or before December 10, 2008. This new system will be effective December 10, 2008.

ADDRESSES: You may submit comments, identified by docket number DHS-2008-0015 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions and privacy issues please contact: Hugo Teufel III (703-235-0780), Chief Privacy Officer, Privacy Office, Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS) and its components and offices have relied on preexisting Privacy Act system of records notices for the collection and maintenance of records that concern DHS's biographical and award records.

As part of its efforts to streamline and consolidate its Privacy Act records systems, DHS is establishing a new agency-wide system of records under the Privacy Act (5 U.S.C. 552a) for DHS biographical and award records. This will ensure that all components of DHS follow the same privacy rules for collecting and handling biographical and award records. The collection and maintenance of this information will assist DHS in managing Departmental biographies in order to ensure information is provided to the public in a usable, accurate format.

In accordance with the Privacy Act of 1974 and as part of DHS's ongoing effort to review and update legacy system of record notices, DHS proposes to consolidate four legacy record systems: Treasury/CS.032 Biographical Files (Headquarters) (66 FR 52984 October 18, 2001), FEMA/EX-1 Biographies (55 FR 37182 September 7, 1990), FEMA/EX-2 President's and Director's Award Nominees (55 FR 37182 September 7, 1990), and DOT/CG 671 Biographical Statement (65 FR 19475 April 11, 2000) into one DHS-wide system of records. DHS also proposes to partially consolidate Treasury/USSS.008 Public Affairs Record System (66 FR 45362 August 28, 2001) into this new record system. This system will allow DHS to collect and maintain the biographical information of DHS employees and other individuals, as well as Departmental award recipients who are not employed by DHS. Departmental award recipients who are DHS employees are covered under OPM/GOVT-2 Performance File System Records. Categories of individuals, categories of records, and the routine uses of these legacy system of records notices have been consolidated and updated to better reflect the Department's biographies record systems. This consolidated system, titled Biographies and Awards, will be included in the Department's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and legal permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires that each agency publish in the Federal Register a description denoting the type and character of each system of records in order to make agency recordkeeping practices transparent, to notify individuals about the use of their records, and to assist the individual to more easily find files within the agency. Below is a description of the Biographies and Awards System of Records.

In accordance with 5 U.S.C. 552a(r), DHS has provided a report of this revised system of records to the Office of Management and Budget and to the Congress.

SYSTEM OF RECORDS:

DHS/ALL-011.

System name:

Department of Homeland Security Biographies and Awards.

Security classification:

Unclassified.

System location:

Records are maintained at several Headquarters locations and in component offices of DHS, in both Washington, DC and field locations.

Categories of individuals covered by the system:

Any individual including DHS senior leadership, past and present, whose biographical information is collected and distributed by DHS. This system includes President's, Secretary's, and Component Leadership's award recipients and nominees who are not DHS employees. Award recipients who are DHS employees are covered under OPM/GOVT-2 Performance File System Records.

Categories of records in the system:

Categories of records in this system include:

• Individual's name;

• Individual's date of birth;

• Individual's place of birth;

• Individual's photo;

• Individual's work history and experience;

• Individual's education;

• Individual's military experience, if applicable;

• Individual's civic duties and previous awards;

• Individual's hometown;

• Type of award received/nominated for (e.g., President's, Secretary's, or Component Leadership's);

• Name of the nominating official;

• Nomination materials including a summary of the individual's outstanding accomplishments, distinguished service, or extraordinary valor to make he/she eligible for an award and published factual account of the nominee's accomplishments;

• Individual's other relevant information that may be collected and distributed to the public.

Authority for maintenance of the system:

5 U.S.C. 301; The Federal Records Act, 44 U.S.C. 3101; The Homeland Security Act of 2002, Public Law 107-296.

Purpose(s):

The purpose of this system is to collect biographical and award information of individuals, primarily DHS senior leadership and President's, Secretary's, and Component Leadership's award recipients and nominees, in order to provide information to the media and the public.

Routine uses of records maintained in the system, including categories of users and the purposes of such uses:

In addition to those disclosures generally permitted under 5 U.S.C. 552a(b) of the Privacy Act, all or a portion of the records or information contained in this system may be disclosed outside the DHS as a routine use pursuant to 5 U.S.C. 552a(b)(3) as follows:

A. To the Department of Justice (including United States Attorney Offices) or other Federal agency conducting litigation or in proceedings before any court, adjudicative or administrative body when it is necessary to the litigation and one of the following is a party to the litigation or has an interest in such litigation:

1. DHS or any component thereof;

2. any employee of DHS in his/her official capacity;

3. any employee of DHS in his/her individual capacity where Department of Justice or DHS has agreed to represent the employee; or

4. the United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions, or grievances, or conducting administrative hearings or appeals, or if needed in the performance of other authorized duties.

H. To audiences attending a particular event when the biographies of speakers are used as background in introductions or other informational material.

I. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Data may be retrieved by an individual's name and type of award.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permission.

Retention and disposal:

Records at the executive level (e.g. Secretary, Deputy Secretary, and Chief of Staff) are permanent. These records are cut off when superseded or obsolete, and are transferred to the National Archives one year after cut off. Records at the non-executive level are temporary. These records are cut off when superseded or obsolete, and are destroyed or deleted upon cutoff or when no longer needed for administrative purposes. General award records, including recommendations, approved nominations, correspondence, reports, and related handbooks pertaining to agency-sponsored cash and non-cash awards are retained for two years and then destroyed. Lists of agency award nominees and winners are destroyed when superseded or obsolete.

System Manager and address:

For Headquarters components of DHS, the System Manager is the Director of Departmental Disclosure, Department of Homeland Security, Washington, DC 20528. For components of DHS, the System Manager can be found at http://www.dhs.gov/foia under “contacts.”

Notification procedure:

Individuals seeking notification of and access to any record contained in this system of records, or seeking to contest its content, may submit a request in writing to the Headquarters or the component's FOIA Officer, whose contact information can be found at http://www.dhs.gov/foia under “contacts.” If an individual believes more than one component maintains Privacy Act records concerning him or her the individual may submit the request to the Chief Privacy Officer, Department of Homeland Security, 245 Murray Drive, SW., Building 410, STOP-0550, Washington, DC 20528.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Identify which component(s) of the Department you believe may have the information about you,

• Specify when you believe the records would have been created,

• Provide any other information that will help the FOIA staff determine which DHS component agency may have responsive records,

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record Source Categories:

Information in this system comes from the individual employee, personnel officers, and co-workers.

Exemptions claimed for the system:

None.

Dated: October 28, 2008.
Hugo Teufel III,
Chief Privacy Officer, Department of Homeland Security.

[FR Doc. E8-26689 Filed 11-7-08; 8:45 am]

BILLING CODE 4410-10-P